DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before August 29, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on July 17, 2024.
Donald P. Burger,
Chief, General Approvals and Permits Branch.

Special Permits Data
Application No. | Applicant | Regulation(s) affected | Nature of the special permits thereof
21764-N | NPROXX B.V | 173.302(a) | To authorize the manufacture, mark, sale, and use of a non-DOT specification, fully wrapped, fiber reinforced composite gas cylinder with a non-load sharing plastic liner for the purpose of transporting certain non-liquefied compressed gases in commerce. (mode 1).
21771-N | Berlin Packaging LLC | 173.158(e) | To authorize the manufacture, mark, sale and use of UN specification packagings for the transport of nitric acid of less than 90% concentration where the glass inner packagings are not packed in tightly-closed, intermediate packagings and cushioned with absorbent material. (mode 1).
21772-N | Enervenue, Inc | 172.102(c)(1) | To authorize the transportation in commerce of UN3548, articles containing miscellaneous dangerous goods, n.o.s. (modes 1, 2, 3).
21776-N | Aggregate Resource Drilling, LLC | 173.212(b), 173.62(c) | To authorize the transportation in commerce of certain hazardous materials in non-DOT specification multi-wall plastic-lined paper bags. (mode 1).
21779-N | Zhejiang Dongcheng Printing Industry Co., Ltd | 173.304a(a)(1), 173.304a(d)(3)(ii) | To authorize the manufacture, mark, sale, and use of a non-DOT specification non-refillable inside container conforming with all regulations applicable to a DOT specification 2P inner non-refillable metal receptacle except for size, testing requirements, and marking. (modes 1, 2, 3, 4).
21782-N | Zhejiang Dongcheng Printing Industry Co., Ltd | 173.304(d) | To authorize the manufacture, mark, sale, and use of a non-DOT specification non-refillable inside container similar to a DOT specification 2Q inside container. (modes 1, 2, 3, 4).
21783-N | J & M Alaska Air Tours, Inc | 172.101(j), 175.310(c) | To authorize the transportation in commerce of certain class 3 fuels in non-DOT specification bulk packaging aboard cargo-only aircraft to remote areas of Alaska. (mode 4).
21788-N | Zhejiang Dongcheng Printing Industry Co., Ltd | 173.304a(a)(1), 173.304a(d)(3)(ii) | To authorize the manufacture, mark, sale, and use of a non-DOT specification non-refillable inside container conforming with all regulations applicable to a DOT specification 2P inner non-refillable metal receptacle except for size, testing requirements, and marking as specified herein, for the transportation in commerce of butane. (modes 1, 2, 3).
21789-N | Interco Trading Inc | 173.185(b), 173.185(f) | To authorize the transportation in commerce of damaged lithium batteries for disposal where more than one cell and/or battery will be contained in a package. (modes 1, 2, 3).
21790-N | Seattle Children's Hospital | 173.196 | To authorize the transportation in commerce of live animals infected with Category A infectious substances as part of a facility move. (mode 1).
21791-N | Resonac America, Inc | 171.23(a), 171.23(a)(3), 178.35 | To authorize the transportation in commerce of non-DOT specification cylinders manufactured to a foreign specification that contain Dichlorosilane. (modes 1, 3).
21796-N | Diversey, Inc | 173.158(f)(3) | To authorize the transportation in commerce of nitric acid with inner packagings that exceed the quantities authorized in the Hazardous Materials Regulations. (modes 1, 2, 3).
21799-N | Nebraska Central Railroad Company | 172.203(a), 174.24(a), 174.24(b), 174.26(a), 174.26(b) | To authorize the use of electronic means to maintain and communicate train consist information in lieu of paper documentation when hazardous materials are transported by rail. (mode 2).
21800-N | Greif, Inc. | 178.509(b)(1), 178.522(b)(1), 178.707(c)(3)(iii) | To authorize the manufacture, mark, sale, and use of 1H1 and 1H2 plastic drums, 31HA1 intermediate bulk containers, 3H1 jerricans, 3H2 jerricans, and 6HA1 composite drums that have been manufactured using recycled resin. (modes 1, 2, 3, 4, 5).
21801-N | Rikutec America, Inc | 172.102(c)(4), 173.158(f)(1) | To authorize the manufacture, mark, sale, and use of UN 6HH1 composite packagings for the transport of nitric acid solutions (<70% nitric acid) using a high-density polyethylene inner receptacle and UN 31HH1 IBCs with a permitted used beyond two years for solutions with more than 55% nitric acid. (modes 1, 2, 3).
21802-N | Technologies Mindcore Inc. | 172.301(c), 173.304a(a)(1) | To authorize the transportation in commerce of sulfur hexafluoride in a non-DOT specification pressure vessel which is a component of an electric utility circuit interrupter unit. (modes 1, 2, 3, 4).
21806-N | Iteology Inc. | 173.185(a)(1) | To authorize the transportation in commerce of prototype lithium cells via cargo-only aircraft. (mode 4).
21807-N | Lippert Components, Inc | 177.834(h), 178.705(d) | To authorize the manufacture, mark, sale, and use of non-specification IBCs having a capacity less than 119 gallons which may be discharged prior to unloading. (mode 1).
21808-N | Albedo Space Corp | 173.301(f)(1) | To authorize the transportation in commerce of spacecraft containing specification cylinders that are not equipped with pressure relief devices. (mode 1).
21809-N | Bhiwadi Cylinders Private Limited | 173.304a(a)(1) | To authorize the manufacture, mark, sale, and use of non-specification inner containers similar to specification DOT 2Q inner containers. (modes 3, 4).
21811-N | CMB Aerosols (UK) Plc | 173.306(a)(3), 178.33-7, 178.33a-7 | To authorize the manufacture, mark, sale, and use of non-DOT specification containers conforming to 2P or 2Q inner receptacles, except for wall thickness, for the transportation in commerce of certain Division 2.1 and 2.2 aerosols. (modes 1, 2, 3).

[FR Doc. 2024-16650 Filed 7-29-24; 8:45 am]

BILLING CODE P